DEPARTMENT OF LABOR

Employment and Training Administration

[TA-W-65,797]

ABB, Inc., Including On-Site Leased Workers From Spherion Staffing, Dividend Staffing, Mystaff, and Zero Chaos, Wichita Falls, TX; Amended Certification Regarding Eligibility To Apply for Worker Adjustment Assistance and Alternative Trade Adjustment Assistance

In accordance with section 223 of the Trade Act of 1974, as amended (19 U.S.C. 2273), and section 246 of the Trade Act of 1974 (26 U.S.C. 2813), as amended, the Department of Labor issued a Certification of Eligibility to apply for Worker Adjustment Assistance and Alternative Trade Adjustment Assistance on June 17, 2009, applicable to workers of ABB Inc., Wichita Falls, Texas. The notice was published in the Federal Register July 14, 2009 (74 FR 34038).

At the request of the State Agency, the Department reviewed the certification for workers of the subject firm. The workers are engaged in the production of electrical components.

New information shows that workers leased from Spherion Staffing, Dividend Staffing, MyStaff, and Zero Chaos were employed on-site by the Wichita Falls, Texas location of ABB, Inc. The Department has determined that these workers were sufficiently under the control and in support of the subject firm to be considered leased workers.

Based on these findings, the Department is amending this certification to include workers leased from Spherion Staffing, Dividend Staffing, MyStaff, and Zero Chaos working on-site at the Wichita Falls, Texas location of ABB, Inc.

The amended notice applicable to TA-W-65,797 is hereby issued as follows:

All workers of ABB, Inc., include on-site leased workers from Spherion Staffing, Dividend Staffing, MyStaff, and Zero Chaos Wichita Falls, Texas, who became totally or partially separated from employment on or after April 13, 2008 through June 17, 2011 are eligible to apply for adjustment assistance under Section 223 of the Trade Act of 1974, and are also eligible to apply for alternative trade adjustment assistance under Section 246 of the Trade Act of 1974.

Signed in Washington, DC this 7th day of April 2010.
Elliott S. Kushner,
Certifying Officer, Division of Trade Adjustment Assistance.

[FR Doc. 2010-8883 Filed 4-16-10; 8:45 am]

BILLING CODE 4510-FN-P